DEPARTMENT OF HOMELAND SECURITY

Transportation Security Administration

[Docket No. TSA-2007-28572]

Extension of Agency Information Collection Activity Under OMB Review: Secure Flight Program

AGENCY: Transportation Security Administration, DHS.

ACTION: 30-Day notice.

SUMMARY: This notice announces that the Transportation Security Administration (TSA) has forwarded the Information Collection Request (ICR), Office of Management and Budget (OMB) control number 1652-0046, abstracted below to OMB for review and approval of an extension of the currently approved collection under the Paperwork Reduction Act (PRA). The ICR describes the nature of the information collection and its expected burden. The information collection involves passenger information that certain United States aircraft operators and foreign air carriers (collectively referred to in this document as “covered aircraft operators”) submit to Secure Flight for the purposes of identifying and protecting against potential and actual threats to transportation security. The information collection also involves individuals who are a lower risk to transportation security and therefore may be eligible for expedited screening.

DATES: Send your comments by June 20, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (IT), TSA 11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on December 6, 2018, 83 FR 62880.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Secure Flight Program.

Type of Request: Extension of a currently approved collection.

OMB Control Number: 1652-0046.

Forms(s): N/A.

Affected Public: Aircraft operators, airport operators.

Abstract: TSA collects information from covered aircraft operators, including foreign air carriers, in order to prescreen passengers under the Secure Flight Program. The information collected under the Secure Flight Program is used for watchlist-matching, for matching against lists of known travelers, and to assess passenger risk (e.g., to identify passengers who present lower risk and may be eligible for expedited screening). The collection covers:

(1) Secure Flight Passenger Data (SFPD) for passengers of covered domestic and international flights within, to, from, or over the continental United States, as well as flights between two foreign locations when operated by a covered U.S. aircraft operator.

(2) SFPD for passengers of charter operators and lessors of aircraft with a maximum takeoff weight of over 12,500 pounds.

(3) Certain identifying information for non-traveling individuals that airport operators or airport operator points of contact seek to authorize to enter a sterile area at a U.S. airport (e.g., to patronize a restaurant, to escort a minor or a passenger with disabilities, or for another approved purpose).

(4) Registration information critical to deployment of Secure Flight, such as contact information, data format, or the mechanism the covered aircraft operators use to transmit SFPD and other data.

(5) Lists of low-risk individuals who are eligible for expedited screening provided by Federal and non-federal entities. In support of TSA Pre✓®, TSA implemented expedited screening of known or low-risk travelers. Federal and non-federal list entities provide TSA with a list of eligible low-risk individuals to be used as part of Secure Flight processes. Secure Flight identifies individuals who should receive low risk screening and transmits the appropriate boarding pass printing result to the aircraft operators.

Number of Respondents: 411.¹

¹ In the 60-day notice, TSA inaccurately provided the number of annual responses, 4,660,363, instead of the number of annual respondents, 411.

Estimated Annual Burden Hours: An estimated 67,147 hours annually.

Dated: May 15, 2019.
Christina A. Walsh,
Paperwork Reduction Act Officer, Information Technology.

[FR Doc. 2019-10555 Filed 5-20-19; 8:45 am]

BILLING CODE 9110-05-P